DEPARTMENT OF ENERGY

Federal Energy Regulatory Commission

[Project No. 7804-030]

Gerald Ohs, Pony Hydro Energy, LLC; Notice of Application for Transfer of License and Soliciting Comments, Motions To Intervene, and Protests

On September 12, 2018, Gerald Ohs (transferor) and Pony Hydro Energy, LLC (transferee) filed an application for the transfer of license for the North Willow Creek Project No. 7804. The project is located on North Willow Creek in Madison County, Montana.

The applicants seek Commission approval to transfer the license for the North Willow Creek Project from the transferor to transferee.

Applicant's Contacts: For Transferor: Mr. Gerald Ohs, P.O. Box 625, 63 North Willow Creek Road, Pony, Montana 59747, Phone: 406-431-5450, Email: klazysranch@yahoo.com.

For Transferee: Mr. Gary L. Perry, Managing Member, Pony Hydro Energy, LLC, 3325 W Cedar Meadows Lane, Manhattan, MT 59741, and Mr. Eric Lee Christensen, Esq., Cairncross & Hempelmann, P.S., 524 Second Ave., Suite 500, Seattle, WA 98104, Phone: 206-254-4451, Email: EChristensen@Cairncross.com.

FERC Contact: Patricia W. Gillis, (202) 502-8735, patricia.gillis@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-7804-030.

Dated: December 19, 2018.
Kimberly D. Bose,
Secretary.

[FR Doc. 2018-28056 Filed 12-26-18; 8:45 am]

BILLING CODE 6717-01-P